NUCLEAR REGULATORY COMMISSION

[NRC-2013-0123]

Reliability Assurance Program

AGENCY: Nuclear Regulatory Commission.

ACTION: Standard review plan final section revision; issuance.

SUMMARY: The U.S. Nuclear Regulatory Commission (NRC) is issuing a final revision to the following section of NUREG-0800, “Standard Review Plan for the Review of Safety Analysis Reports for Nuclear Power Plants: LWR Edition,” Section 17.4, “Reliability Assurance Program.”

DATES: The effective date of this Standard Review Plan (SRP) update is July 10, 2014.

ADDRESSES: Please refer to Docket ID NRC-2013-0123 when contacting the NRC about the availability of information regarding this document. You may access publicly-available information related to this document using any of the following methods:

• Federal Rulemaking Web site: Go to http://www.regulations.gov and search for Docket ID NRC-2013-0123. Address questions about NRC dockets to Carol Gallagher; telephone: 301-287-3422; email: Carol.Gallagher@nrc.gov. For technical questions, contact the individual(s) listed in the FOR FURTHER INFORMATION CONTACT section of this document.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The final revision and previously issued draft revision for public use and comment, and redline strikeout comparing the final revision with the draft revision are available in ADAMS under the following Accession Nos.:

SRP section | Final revision | Draft revision | Redline strikeout
17.4 | ML13296A435 | ML13296A435 | ML13296A436

• NRC's PDR: You may examine and purchase copies of public documents at the NRC's PDR, Room O1-F21, One White Flint North, 11555 Rockville Pike, Rockville, Maryland 20852.

• The NRC posts its issued staff guidance on the NRC's external Web page (http://www.nrc.gov/reading-rm/doc-collections/nuregs/staff/sr0800/).

FOR FURTHER INFORMATION CONTACT: Jonathan DeGange, Office of New Reactors, U.S. Nuclear Regulatory Commission, Washington, DC 20555-0001, telephone: 301-415-6992, email: Jonathan.DeGange@nrc.gov.

SUPPLEMENTARY INFORMATION:

I. Background

On June 11, 2013 (78 FR 35072), the NRC published for public comment a proposed revision to SRP Section 17.4, “Reliability Assurance Program.” Comment submissions were received on the proposed revision. The staff made changes to the proposed revision after consideration of the comments.

The staff made several administrative changes to the text in the document to facilitate flow and better clarify the guidance based on comments received. Additional changes were made to add clarity to guidance on programmatic controls, and clarify how applicants must address Combined License Action Items and Certification Requirements and Restrictions.

A summary of the comments and the staff's disposition of the comments are available in a separate document, “Response to Public Comments on Draft Standard Review Plan (SRP),” Section 17.4, “Reliability Assurance Program” (ADAMS Accession No. ML13296A437).

II. Backfitting and Issue Finality

Issuance of this final SRP section does not constitute backfitting as defined in Section 50.109 of Title 10 of the Code of Federal Regulations (10 CFR) (the Backfit Rule) and is not otherwise inconsistent with the issue finality provisions in 10 CFR Part 52. The NRC staff's position is based upon the following considerations:

1. The SRP positions do not constitute backfitting, since the SRP is internal guidance directed at the NRC staff with respect to their regulatory responsibilities.

The SRP provides guidance to the staff on how to review an application for NRC regulatory approval in the form of licensing. Changes in internal staff guidance are not matters for which either nuclear power plant applicants or licensees are protected under either the Backfit Rule or the issue finality provisions of 10 CFR Part 52.

2. Backfitting and issue finality—with certain exceptions discussed below—do not protect current or future applicants.

Applicants and potential applicants are not, with certain exceptions, protected by either the Backfit Rule or any issue finality provisions under 10 CFR Part 52. This is because neither the Backfit Rule nor the issue finality provisions were intended to apply to every NRC action which substantially changes the expectations of current and future applicants.

The exceptions to the general principle are applicable whenever an applicant references a 10 CFR Part 52 license (e.g., an early site permit) and/or NRC regulatory approval (e.g., a design certification rule) with specified issue finality provisions. The staff does not currently intend to impose the positions represented in this SRP section in a manner that is inconsistent with any issue finality provisions of 10 CFR Part 52. If in the future the NRC staff does indeed intend to impose positions inconsistent with these issue finality provisions, the NRC staff must address the regulatory criteria for avoiding issue finality.

3. The NRC staff has no intention to impose the SRP positions on existing nuclear power plant licenses or regulatory approvals either now or in the future (absent a voluntary request for change from the licensee, holder of a regulatory approval, or a design certification applicant).

The staff does not intend to impose or apply the positions described in the SRP section to existing (already issued) licenses (e.g., operating licenses and combined licenses) and regulatory approvals—in this case, design certifications. Hence, the issuance of this SRP guidance, even if considered guidance which is within the purview of the issue finality provisions in 10 CFR Part 52, need not be evaluated as if it were a backfit or as being inconsistent with issue finality provisions. If, in the future, the staff seeks to impose a position in the SRP on holders of already issued licenses in a manner which does not provide issue finality as described in the applicable issue finality provision, then the staff must make the showing as set forth in the Backfit Rule, or address the criteria for avoiding issue finality as described applicable issue finality provision, as applicable.

III. Congressional Review Act

This action is a rule as defined in the Congressional Review Act (5 U.S.C. §§ 801-808). However, the Office of Management and Budget has not found it to be a major rule as defined in the Congressional Review Act.

Dated at Rockville, Maryland, this 30th day of May 2014.
For the Nuclear Regulatory Commission.
Joseph Colaccino,
Chief, Policy Branch, Division of Advanced Reactors and Rulemaking, Office of New Reactors.

[FR Doc. 2014-13516 Filed 6-9-14; 8:45 am]

BILLING CODE 7590-01-P